DEPARTMENT OF ENERGY

Federal Energy Regulatory Commission

[Project No. 12492-001]

Ha-Best Inc.; Notice of Application Ready for Environmental Analysis, Soliciting Motions To Intervene and Protests, and Soliciting Comments, Recommendations, Terms and Conditions, and Prescriptions

November 5, 2009.

Take notice that the following hydroelectric application has been filed with the Commission and is available for public inspection.

a. Type of Application: Original Minor License.

b. Project No.: P-12492-001.

c. Date filed: July 3, 2007, and amended on July 31, 2008.

d. Applicant: Ha-Best Inc.

e. Name of Project: Miner Shoal Waterpower Project.

f. Location: The proposed project is located on the Soque River, near the Town of Demorest, Habersham County, Georgia. The proposed project does not occupy federal lands.

g. Filed Pursuant to: Federal Power Act 16 U.S.C. 791 (a)-825(r).

h. Applicant Contact: Don Ferguson, 34 West Jarrard Street, Cleveland, GA 30528; Telephone (706) 865-3999.

i. FERC Contact: Janet Hutzel, Telephone (202) 502-8675, or by e-mail at: janet.hutzel@ferc.gov.

j. The deadline for filing motions to intervene and protests, comments, recommendations, terms and conditions, and prescriptions is 60 days from the issuance of this notice and reply comments are due 105 days from the issuance date of this notice.

All documents may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

You may also register online at http://www.ferc.gov/docs-filing/esubscription.asp to be notified via e-mail of new filings and issuances related to this or other pending projects. For assistance, contact FERC Online Support.

k. This application has been accepted and is ready for environmental analysis.

l. The proposed Minor Shoal Project would consist of the following: (1) An existing 5-foot-high, 80-foot-long diversion dam; (2) an existing 92-foot-long, 7-foot-diameter steel penstock; (3) a new 160-foot-long, 7-foot-diameter steel penstock from the diversion dam tying in to the existing penstock at elevation 1,228 feet mean sea level; (4) two existing powerhouses containing a total of three turbines with a total installed capacity of 1,260 kilowatts; (5) an existing 446-foot-long, 230-kilovolt transmission line and (6) appurtenant facilities. The project would generate an average of 2,175,000 kilowatt-hours.

m. A copy of the application is available for review at the Commission in the Public Reference Room or may be viewed on the Commission's Web site at http://www.ferc.gov using the “eLibrary” link. Enter the docket number excluding the last three digits in the docket number field to access the document. For assistance, contact FERC Online Support. A copy is available for inspection and reproduction at the address in Item h above.

n. Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding.

All filings must: (1) Bear in all capital letters the title “PROTEST,” or “MOTION TO INTERVENE,” or “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon the representative of the applicant. A copy of all other filings must be accompanied by proof of service on all persons listed in the service list prepared by the Commission in this proceeding, in accordance with 18 CFR 4.34(b) and 385.2010.

o. Public notice of the filing of the initial development application and amended application, which has already been given, established the due date for filing competing applications or notices of intent. Under the Commission's regulations, any competing development application must be filed in response to, and in compliance with, public notice of the initial development application. No competing applications or notices of intent may be filed in response to this notice.

p. A license applicant must file, no later than 60 days following the date of issuance of this notice: (1) A copy of the water quality certification; (2) a copy of the request for certification, including proof of the date on which the certifying agency received the request; or (3) evidence of waiver of water quality certification.

Kimberly D. Bose,
Secretary.

[FR Doc. E9-27291 Filed 11-12-09; 8:45 am]

BILLING CODE 6717-01-P